DEPARTMENT OF HEALTH AND HUMAN SERVICES

Health Resources and Services Administration

Statement of Organization, Functions and Delegations of Authority

This notice amends Part R of the Statement of Organization, Functions and Delegations of Authority of the Department of Health and Human Services (DHHS), Health Resources and Services Administration (HRSA) (60 FR 56605, as amended November 6, 1995; amended at 67 FR 46519, July 15, 2002; 68 FR 787-793, January 7, 2003, 68 FR 64357-64358, November 13, 2003; at 69 FR 56433-56434, September 21, 2004; 70 FR 61293-61294, October 21, 2005; and last amended at 71 FR 46237-46238, August 11, 2006).

This notice reflects changes to the organization and functions of the Office of the Administrator (RA), Office of Rural Health Policy (RH) and the Bureau of Primary Health Care (RC). Specifically, it moves the Intergovernmental Affairs function within the Office of Communication (RA6) from the Office of Administrator (OA) to the Office of Rural Health Policy (RH). Additionally, it moves the Black Lung Clinic Program and the Radiation Exposure Screening and Education Program from the Bureau of Primary Health Care (RC) to the Office of Rural Health Policy (RH).

Chapter RA—Office of the Administrator

Section RA-10, Organization

The Offices under the Immediate Office of the Administrator consist of the following components:

(1) Immediate Office of the Administrator (RA);

(2) Office of Equal Opportunity and Civil Rights (RA2);

(3) Office of Planning and Evaluation (RA5);

(4) Office of Communications (RA6);

(5) Office of Minority Health and Health Disparities (RA9);

(6) Office of Legislation (RAE);

(7) Office of Information Technology (RAG); and

(8) Office of International Health Affairs (RAH).

Section RA-20, Functions

Delete the functional statement for the Office of Communications (RA6) in its entirety and replace it with the following:

Office of Communication (RA6)

Provides leadership and general policy and program direction for, and conducts and coordinates communications and public affairs activities of the Agency. Specifically: (1) Serves as focal point for coordination of Agency communications activities with those of other health agencies within the Department of Health and Human Services and with field, State, local, voluntary and professional organizations; (2) develops and implements national communications initiatives to inform and educate the public, health care professionals, policy makers and the media; (3) coordinates, researches, writes and prepares speeches and audiovisual presentations for the HRSA Administrator and staff; (4) provides communication and public affairs expertise and staff advice and support to the Administrator in program and policy formulations and execution consistent with policy direction established by the Assistant Secretary for Public Affairs; (5) develops and implements policies and procedures related to external media relations and internal employee communications including those for the development, review, processing, quality control, and dissemination of Agency communications materials, including exhibits and those disseminated electronically; (6) serves as Communications and Public Affairs Officer for the Agency including establishment and maintenance of productive relationships with the news media; (7) coordinates the implementation of the Freedom of Information Act for the Agency; and (8) manages audio visual and multimedia activities in support of communications efforts through multiple media formats.

Chapter RH—Office of Rural Health Policy

Section RH-10, Organization

The Office of Rural Health Policy is headed by the Associate Administrator who reports directly to the Administrator, HRSA. Specifically, this notice amends the functional statement by adding responsibility for the Black Lung Clinic Program; Radiation Exposure Screening and Education Program, and Intergovernmental Affairs.

Section RH -20, Functions

Delete the functional statement for the former Rural Health Policy (RH) in its entirety and replace with the following:

The Office of Rural Health Policy (RH) serves as a focal point within the Department and as a principal source of advice to the Administrator and Secretary for coordinating efforts to strengthen and improve the delivery of health services to populations in the Nation's rural areas and border areas, providing leadership and interacting with stakeholders in the delivery of health care to underserved and at risk populations. Specifically, the Office of Rural Health Policy is organized around the following primary issue areas:

Delivery of Health Services: (1) Collects and analyzes information regarding the special problems of rural health care providers and populations; (2) works with States, State hospital associations, private associations, foundations, and other organizations to focus attention on, and promote solutions to problems related to the delivery of health services in rural communities; (3) provides staff support to the National Advisory Committee on Rural Health and Human Services; (4) stimulates and coordinates interaction on rural health activities and programs in the Agency, Department and with other Federal agencies; (5) supports rural health center research and keeps informed of research and demonstration projects funded by States and foundations in the field of rural health care delivery; (6) establishes and maintains a resource center for the collection and dissemination of the latest information and research findings related to the delivery of health services in rural areas; (7) coordinates congressional and private sector inquiries related to rural health; (8) advises the Agency, Administrator and Department on the effects of current policies and proposed statutory, regulatory, administrative, and budgetary changes in the programs established under titles XVIII and XIX of the Social Security Act on the financial viability of small rural hospitals, the ability of rural areas to attract and retain physicians and other health professionals; (9) oversees compliance by CMS with the requirement that rural hospital impact analyses are developed whenever proposed regulations might have a significant impact on a substantial number of small rural hospitals; (10) supports specialized rural programs on minority health, mental health, preventive health education, oral health and occupational health and safety; (11) plans and manages a nationwide rural health grants program; (12) plans and manages a program of State grants which support collaboration within State offices of rural health; (13) plans, directs, and coordinates the Agency's border health activities; (14) funds public and private non-profit entities for the operation of clinics that provide diagnosis, treatment and rehabilitation of active and retired coal miners and others with respiratory ailments (black lung) and other occupational related respiratory disease impairments; and (15) funds radiation exposure screening and education programs that screen eligible individuals adversely affected by the mining, transport and processing of uranium and the testing of nuclear weapons for cancer and other diseases.

Intergovernmental Affairs: (1) Provides the Administrator with a single point of contact on all activities related to important State and local government, stakeholder association, and interest group activities; (2) coordinates Agency cross-Bureau cooperative agreements and activities with organizations such as the National Governors Association, National Conference of State Legislature, Association of State and Territorial Health Officials, National Association of Counties and National Association of County and City Health Officials; (3) interacts with various commissions such as the Delta Regional Authority, Appalachian Regional Commission, Denali Commission and the United States and Mexico Border Health Commission; and (4) serves as primary liaison to Department intergovernmental staff.

Section RH-30, Delegation of Authority

All delegations of authority which were in effect immediately prior to the effective date hereof have been continued in effect in them or their successors pending further re-delegation. I hereby ratify and affirm all actions taken by any HRSA official which involves the exercise of these authorities prior to the effective date of this delegation.

This reorganization is effective upon the date of signature.

Dated: October 31, 2006.
Elizabeth M. Duke,
Administrator.

[FR Doc. E6-19265 Filed 11-14-06; 8:45 am]

BILLING CODE 4165-15-P